DEPARTMENT OF LABOR

Employment and Training Administration

[TA-W-85,066]

SunEdison, Inc., STP Manufacturing Plant, St. Peters, Missouri; Notice of Affirmative Determination Regarding Application for Reconsideration

By application dated June 3, 2014, a company official requested administrative reconsideration of the negative determination regarding workers' eligibility to apply for worker adjustment assistance applicable to workers and former workers of SunEdison, Inc., STP Manufacturing Plant, St. Peters, Missouri (subject firm). The determination was issued on May 6, 2014 and the Notice of determination has not yet been published in the Federal Register.

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative determination was based on the Department of Labor's findings that the subject firm did not shift production of articles like or directly competitive with those produced by the workers to a foreign country during the relevant time period; the subject firm did not increase imports of such articles during the relevant time period; and the subject firm is not a Supplier or Downstream Producer to a firm that employed a group of workers who received a certification of eligibility under Section 222(a) of the Trade Act of 1974, as amended (the Act).

The request for reconsideration includes information not previously considered regarding the subject firm's operations and customers.

The Department has carefully reviewed the request for reconsideration and the existing record, and has determined that the Department will conduct further investigation to determine if the workers meet the eligibility requirements of the Act.

Conclusion

After careful review of the application, I conclude that the claim is of sufficient weight to justify reconsideration of the U.S. Department of Labor's prior decision. The application is, therefore, granted.

Signed at Washington, DC, this 24th day of June 2014.
Del Min Amy Chen,
Certifying Officer, Office of Trade Adjustment Assistance.

[FR Doc. 2014-15852 Filed 7-7-14; 8:45 am]

BILLING CODE 4510-FN-P